DEPARTMENT OF COMMERCE

National Oceanic and Atmospheric Administration

50 CFR Part 679

Fisheries of the Exclusive Economic Zone Off Alaska

CFR Correction

In title 50 of the Code of Federal Regulations, Part 660 to end, revised as of October 1, 2020, on page 702, in section 679.22, the paragraph heading for paragraph (a)(7)(i) is reinstated to read as follows:

§ 679.22 Closures.

(a) * * *

(7) * * *

(i) Bogoslof area—

* * * * *

[FR Doc. 2021-21060 Filed 9-24-21; 8:45 am]

BILLING CODE 0099-10-P